DEPARTMENT OF JUSTICE

Drug Enforcement Administration

[Docket No. DEA-391]

Controlled Substances: 2014 Established Aggregate Production Quotas for 10 Temporarily Controlled Synthetic Cathinones

AGENCY: Drug Enforcement Administration (DEA), Department of Justice.

ACTION: Notice.

SUMMARY: This notice establishes the initial 2014 aggregate production quotas for 10 temporarily controlled synthetic cathinones: 4-methyl-N-ethylcathinone (4-MEC); 4-methyl-α-pyrrolidinopropiophenone (4-MePPP); alpha-pyrrolidinopentiophenone (α-PVP); 1-(1,3-benzodioxol-5-yl)-2-(methylamino)butan-1-one (butylone); 2-(methylamino)-1-phenylpentan-1-one (pentedrone); 1-(1,3-benzodioxol-5-yl)-2-(methylamino)pentan-1-one (pentylone); 4-fluoro-N-methylcathinone (4-FMC); 3-fluoro-N-methylcathinone (3-FMC); naphthylpyrovalerone (naphyrone); and alpha-pyrrolidinobutiophenone (α-PBP).

DATES: Effective June 5, 2014.

FOR FURTHER INFORMATION CONTACT: Ruth A. Carter, Office of Diversion Control, Drug Enforcement Administration; Mailing Address: 8701 Morrissette Drive, Springfield, Virginia 22152, Telephone: (202) 598-6812.

SUPPLEMENTARY INFORMATION:

Background

Section 306 of the Controlled Substances Act (CSA) (21 U.S.C. 826) requires the Attorney General to establish aggregate production quotas for each basic class of controlled substance listed in schedules I and II and for the list I chemicals ephedrine, pseudoephedrine, and phenylpropanolamine. The Attorney General has delegated this authority to the Administrator of the DEA, 28 CFR 0.100, who in turn has redelegated that authority to the Deputy Administrator of the DEA, 28 CFR part 0, subpart R, App.

On March 7, 2014, the DEA published in the Federal Register a final order to temporarily place 10 synthetic cathinones, 4-methyl-N-ethylcathinone (4-MEC); 4-methyl-α-pyrrolidinopropiophenone (4-MePPP); alpha-pyrrolidinopentiophenone (α-PVP); 1-(1,3-benzodioxol-5-yl)-2-(methylamino)butan-1-one (butylone); 2-(methylamino)-1-phenylpentan-1-one (pentedrone); 1-(1,3-benzodioxol-5-yl)-2-(methylamino)pentan-1-one (pentylone); 4-fluoro-N-methylcathinone (4-FMC); 3-fluoro-N-methylcathinone (3-FMC); naphthylpyrovalerone (naphyrone); and alpha-pyrrolidinobutiophenone (α-PBP), into schedule I of the CSA (79 FR 12938), making all regulations pertaining to schedule I controlled substances applicable to the manufacture of 4-MEC, 4-MePPP, α-PVP, butylone, pentedrone, pentylone, 4-FMC, 3-FMC, naphyrone, and α-PBP, including the requirement to obtain a manufacturing quota pursuant to 21 CFR part 1303.

The 2014 aggregate production quotas for 4-MEC, 4-MePPP, α-PVP, butylone, pentedrone, pentylone, 4-FMC, 3-FMC, naphyrone, and α-PBP represent those quantities that may be manufactured in the United States in 2014 to provide for the estimated scientific, research, and industrial needs of the United States, lawful export requirements, and the establishment and maintenance of reserve stocks.

On April 1, 2014, the DEA published a notice titled, “Controlled Substances: 2014 Proposed Aggregate Production Quota for 10 Temporarily Controlled Synthetic Cathinones” in the Federal Register (79 FR 18316). That notice proposed the 2014 aggregate production quotas for 4-MEC, 4-MePPP, α-PVP, butylone, pentedrone, pentylone, 4-FMC, 3-FMC, naphyrone, and α-PBP. Interested persons were invited to comment on or object to the proposed aggregate production quotas for 4-MEC, 4-MePPP, α-PVP, butylone, pentedrone, pentylone, 4-FMC, 3-FMC, naphyrone, and α-PBP on or before May 1, 2014. No comments were received.

Analysis for 2014 Established Aggregate Production Quotas

In determining the 2014 aggregate production quotas for 4-methyl-N-ethylcathinone (4-MEC); 4-methyl-α-pyrrolidinopropiophenone (4-MePPP); alpha-pyrrolidinopentiophenone (α-PVP); 1-(1,3-benzodioxol-5-yl)-2-(methylamino)butan-1-one (butylone); 2-(methylamino)-1-phenylpentan-1-one (pentedrone); 1-(1,3-benzodioxol-5-yl)-2-(methylamino)pentan-1-one (pentylone); 4-fluoro-N-methylcathinone (4-FMC); 3-fluoro-N-methylcathinone (3-FMC); naphthylpyrovalerone (naphyrone); and alpha-pyrrolidinobutiophenone (α-PBP), the DEA has taken into consideration the factors set forth at 21 CFR 1303.11, pursuant to 21 U.S.C. 826(a), and other relevant factors, including 2014 export requirements, industrial use, applications for quotas, as well as information on research and product development requirements.

Pursuant to 21 U.S.C. 826 and in accordance with 21 CFR 1303.11, the Deputy Administrator hereby establishes the 2014 aggregate production quotas for 4-MEC, 4-MePPP, α-PVP, butylone, pentedrone, pentylone, 4-FMC, 3-FMC, naphyrone, and α-PBP, expressed in grams of anhydrous acid or base, as follows:

Basic class—schedule I | Established 2014 quota
1-(1,3-benzodioxol-5-yl)-2-(methylamino)butan-1-one (butylone) | 15 g
1-(1,3-benzodioxol-5-yl)-2-(methylamino)pentan-1-one (pentylone) | 15 g
2-(methylamino)-1-phenylpentan-1-one (pentedrone) | 15 g
3-fluoro-N-methylcathinone (3-FMC) | 15 g
4-fluoro-N-methylcathinone (4-FMC) | 15 g
4-methyl-N-ethylcathinone (4-MEC) | 15 g
4-methyl-α-pyrrolidinopropiophenone (4-MePPP) | 15 g
alpha-pyrrolidinobutiophenone (α-PBP) | 15 g
alpha-pyrrolidinopentiophenone (α-PVP) | 15 g
naphthylpyrovalerone (naphyrone) | 15 g

In accordance with 21 CFR 1303.13, upon consideration of the relevant factors, the Deputy Administrator may adjust the 2014 aggregate production quotas for 4-MEC, 4-MePPP, α-PVP, butylone, pentedrone, pentylone, 4-FMC, 3-FMC, naphyrone, and α-PBP as needed.

Dated: May 30, 2014.
Thomas M. Harrigan,
Deputy Administrator.

[FR Doc. 2014-13082 Filed 6-4-14; 8:45 am]

BILLING CODE 4410-09-P